DEPARTMENT OF COMMERCE

National Institute of Standards and Technology

[Docket No. 021127288-2288-01]

Proposed Withdrawal Of Seventeen (17) Federal Information Processing Standards (FIPS)

AGENCY: National Institute of Standards and Technology (NIST), Commerce.

ACTION: Notice; Request for comments.

SUMMARY: The National Institute of Standards and Technology (NIST) proposes to withdraw seventeen (17) Federal Information Processing Standards (FIPS) from the FIPS series. Some of these FIPS adopt voluntary industry standards for Federal government use, but the FIPS documents have not been updated to reference current or revised voluntary industry standards. Other FIPS adopt data standards that are developed and used by other Federal government agencies. These FIPS have not been updated to reflect changes and modifications in the data representations. The remaining FIPS provide advisory guidance to Federal agencies on computer security issues. This advisory guidance, which has no requirements for compulsory and binding use, has been updated by NIST and issued in more recent recommendations and publications.

Prior to the submission of this proposed withdrawal to the Secretary of Commerce for review and approval, it is essential to assure that consideration is given to the needs and views of manufacturers, the public, and State and local governments. The purpose of this notice is to solicit such views.

DATES: Comments on the proposed withdrawal of these FIPS must be received on or before June 2, 2003.

ADDRESSES: Written comments concerning the withdrawal of these FIPS should be sent to: Information Technology Laboratory, ATTN: Proposed Withdrawal of 17 FIPS, Mail Stop 8930, National Institute of Standards and Technology, 100 Bureau Drive, Gaithersburg, MD 20899. Electronic comments should be sent to: fips.comments@nist.gov.

Information about the FIPS is available on the NIST web pages: http://www.itl.nist.gov/fipspubs/index.htm.

Comments received in response to this notice will be published electronically at http://csrc.nist.gov/publications/fips/index.html.

FOR FURTHER INFORMATION CONTACT: Ms. Shirley M. Radack, telephone (301) 975-2833, MS 8930, National Institute of Standards and Technology, Gaithersburg, MD 20899 or via e-mail at shirley.radack@nist.gov.

SUPPLEMENTARY INFORMATION: Federal agencies and departments are directed by the National Technology Transfer and Advancement Act of 1995, Public Law 104-113, to use technical standards that are developed in voluntary consensus standards bodies. Consequently, there no longer is a need for FIPS that duplicate voluntary industry standards.

The following Federal Information Processing Standards (FIPS) Publications are proposed for withdrawal from the FIPS series:

FIPS 8-6, Metropolitan Areas (Including MSAs, CMSAs, PMSAs, and NECMAs)

FIPS 9-1, Congressional Districts of the U.S.

FIPS 31, Guidelines for Automatic Data Processing Physical Security and Risk Management

FIPS 48, Guidelines on Evaluation of Techniques for Automated Personal Identification

FIPS 55-3, Codes for Named Populated Places, Primary County Divisions, and Other Locational Entities of the United States, Puerto Rico, and the Outlying Areas

FIPS 66, Standard Industrial Classification (SIC) Codes

FIPS 73, Guidelines for Security of Computer Applications

FIPS 83, Guideline on User Authentication Techniques for Computer Network Access Control

FIPS 87, Guidelines for ADP Contingency Planning

FIPS 92, Guideline for Standard Occupational Classification (SOC) Codes

FIPS 95-2, Codes for the Identification of Federal and Federally Assisted Organizations

FIPS 102, Guideline for Computer Security Certification and Accreditation

FIPS 112, Password Usage

FIPS 127-2, Database Language SQL (ANSI X3.135-1992)

FIPS 159, Detail Specification for 62.5-um Core Diameter/125-um Cladding Diameter Class 1A Multimode, Graded-index Optical Waveguide Fibers

FIPS 171, Key Management Using ANSI X9.17

FIPS 173-1, Spatial Data Transfer Standard.

The FIPS are being proposed for withdrawal because they are obsolete, or have not been updated to adopt current voluntary industry standards, current federal data standards, or current good practices for computer security. Withdrawal of these FIPS does not lessen agency responsibilities to use current voluntary industry standards and available good practices in their acquisition and management activities. The Information Technology Management Reform Act of 1996 (Division E of Public Law 104-106) and Executive Order 13011 emphasize agency management of information technology and Government-wide interagency support activities to improve productivity, security, interoperability, and coordination of Government resources.

Withdrawal means that these FIPS would no longer be part of a subscription service that is provided by the National Technical Information Service. NIST will continue to provide relevant information on standards and guidelines by means of electronic dissemination methods, and will keep references to the withdrawn FIPS on its FIPS Web pages.

Authority: Federal Information Processing Standards Publications (FIPS PUBS) are issued by the National Institute of Standards and Technology after approval by the Secretary of Commerce, pursuant to Section 5131 of the Information Technology Management Reform Act of 1996 (Pub. L. 104-106), the Computer Security Act of 1987 (Pub. L. 100-235), and Appendix III to Office of Management and Budget Circular A-130.

Classification: Executive Order 12866: This notice has been determined not to be significant for the purposes of Executive Order 12866.

Dated: February 26, 2003.
Arden L. Bement, Jr.,
Director.

[FR Doc. 03-4936 Filed 3-3-03; 8:45 am]

BILLING CODE 3510-CN-P